INTERNATIONAL TRADE COMMISSION

[Inv. No. 337-TA-495]

In the Matter of Certain Breath Test Systems for the Detection of Gastrointestinal Disorders and Components Thereof; Notice of Commission Decision Not To Review an Initial Determination Terminating the Investigation on the Basis of a Consent Order; Issuance of Consent Order

AGENCY: U.S. International Trade Commission.

ACTION: Notice.

SUMMARY: Notice is hereby given that the U.S. International Trade Commission has determined not to review the presiding administrative law judge's (“ALJ's”) initial determination (“ID”) (Order No. 4) terminating the above-captioned investigation on the basis of a consent order.

FOR FURTHER INFORMATION CONTACT: Wayne Herrington, Esq., Office of the General Counsel, U.S. International Trade Commission, 500 E Street, SW., Washington, DC 20436, telephone: (202) 205-3090. Copies of the ALJ's ID and all other nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on July 30, 2003, based on a complaint filed by Meretek Diagnostics, Inc. of Lafayette, Colorado, and Medquest PTY, Ltd. of Perth, Australia. 68 FR 44812 (July 30, 2003). The complaint, as supplemented, alleged violations of section 337 of the Tariff Act of 1930 in the importation into the United States, the sale for importation, and the sale within the United States after importation of certain breath test systems for the detection of gastrointestinal disorders and components thereof by reason of infringement of claims 1, 2, 3, and 5 of U.S. Patent No. 4,830,010. The complaint and notice of investigation named Oridion Systems, Ltd.; Oridion Medical 1987 Ltd.; Oridion BreathID Ltd.; and Oridion BreathID Inc. as respondents.

On September 2, 2003, complainants and respondents filed a joint motion pursuant to Commission rule 210.21(c) to terminate the investigation as to all respondents on the basis of a consent order. The motion included a consent order stipulation and a proposed consent order. The Commission investigative attorney supported the motion. On September 12, 2003, the ALJ issued the subject ID terminating the investigation in its entirety on the basis of a consent order. No petitions for review of the ID were filed.

The authority for the Commission's determination is contained in section 337 of the Tariff Act of 1930, as amended (19 U.S.C. 1337), and in section 210.42 of the Commission's Rules of Practice and Procedure (19 CFR 210.42).

By order of the Commission.
Issued: October 1, 2003.
Marilyn R. Abbott,
Secretary to the Commission.

[FR Doc. 03-25455 Filed 10-7-03; 8:45 am]

BILLING CODE 7020-02-P